SMALL BUSINESS ADMINISTRATION

Small Business Size Standards: Waiver of the Nonmanufacturer Rule

AGENCY: U.S. Small Business Administration.

ACTION: Notice of Retraction of a Waiver from the Nonmanufacturer Rule for Product Service Code (PSC) 9130, Liquid Propellants—Petroleum Base, under North American Industry Classification System (NAICS) code 324110 (Petroleum Refineries).

SUMMARY: The U. S. Small Business Administration (SBA) is proposing the retraction of a class waiver from the non-manufacturer rule for PSC 9130, Liquid Propellants—Petroleum Base, NAICS 324110.

DATES: Comments must be submitted on or before August 21, 2009.

ADDRESSES: You may submit comments to Pamela M. McClam, Program Analyst, U.S. Small Business Administration, Office of Government Contracting, 409 3rd Street, SW., Suite 8800, Washington, DC 20416. A printout of approved class waivers can be found at http://www.sba.gov/aboutsba/sbaprograms/gc/programs/gc_waivers_nonmanufacturer.html.

FOR FURTHER INFORMATION CONTACT: Pamela M. McClam, Program Analyst, by telephone at (202) 205-7408; by FAX at (202) 481-4783; or by e-mail at Pamela.McClam@sba.gov.

SUPPLEMENTARY INFORMATION: Section 8(a)(17) of the Small Business Act (Act), 15 U.S.C. 637(a)(17), requires that recipients of Federal contracts set aside for small businesses, service-disabled veteran-owned small businesses, or participants in SBA's 8(a) Business Development (BD) Program provide the product of a small business manufacturer or processor, if the recipient is other than the actual manufacturer or processor of the product. This requirement is commonly referred to as the Nonmanufacturer Rule. 13 CFR 121.406(b). Section 8(a)(17)(b)(iv) of the Act authorizes SBA to waive the Nonmanufacturer Rule for any “class of products” for which there are no small business manufacturers or processors available to participate in the Federal market.

A class of products is defined based on the Office of Management and Budget's NAICS codes and the General Services Administration's Product and Service Code Directory. Within each six-digit NAICS code are subdivisions of products that can be considered for waiver. A request for a waiver of a class of products should refer to a specific subdivision, or statement of product, within a six-digit code in one of these manuals. A waiver of the Nonmanufacturer Rule does not waive the entire class of products under a specific NAICS code. The class waiver waives specific products within a subdivision within a NAICS code.

Any individual or organization (government agency, business, association, etc.) may request a waiver for a class of products. The request should be in writing, addressed to the Director for Government Contracting and should specifically state the class (or classes) of products for which the waiver is sought.

SBA is proposing to a retraction of the class waiver from the non-manufacturer rule for PSC 9130 (Liquid Propellants—Petroleum Base) under NAICS code 324110. The waiver from the non-manufacturer rule for PSC 9130 is being retracted based on information SBA received from the Defense Logistics Agency, Defense Energy Support Center (DESC), Fort Belvoir, VA. SBA's Federal Register Notice of Intent to grant a waiver of the Non-Manufacturer Rule for (PSC) 9130 (Liquid Propellants—Petroleum Base) was published on May 11, 2009. SBA finalized the waiver on June 8, 2009 (74 FR 27202). DESC was not aware of the notice until after the closing date for submission of comments. They have awarded prime contracts to, or received offers from, multiple small business refiners within the past 24 months.

Thus the SBA is proposing a retraction of the class waiver from the non-manufacturer rule for PSC 9130 (Liquid Propellants—Petroleum Base) under NAICS code 324110.

The public is invited to provide comments to SBA on the proposed retraction of the waiver within 15 days after date of publication in the Federal Register.

Authority: 15 U.S.C. 634.

Jim Gambardella,
(A) Director for Government Contracting.

[FR Doc. E9-18584 Filed 8-3-09; 8:45 am]

BILLING CODE 8025-01-P